DEPARTMENT OF ENERGY

Federal Energy Regulatory Commission

Combined Notice of Filings #1

Take notice that the Commission received the following electric rate filings:

Docket Numbers: ER15-794-005; ER15-794-007.

Applicants: Catalyst Paper Operations, Inc.

Description: Notification of Change in Status and Supplement to June 30, 2017 Triennial Market Power Analysis for the Northeast Region of Catalyst Paper Operations, Inc.

Filed Date: 8/18/17.

Accession Number: 20170818-5150.

Comments Due: 5 p.m. ET 9/8/17.

Docket Numbers: ER16-2602-003.

Applicants: 4C Acquisition, LLC.

Description: Compliance filing: Compliance Filing for Market-Based Rate Authorization of 4C Acquisition, LLC to be effective N/A.

Filed Date: 8/18/17.

Accession Number: 20170818-5142.

Comments Due: 5 p.m. ET 9/8/17.

Docket Numbers: ER17-2336-001.

Applicants: Shoreham Solar Commons LLC.

Description: Tariff Amendment: Supplement to Market-Based Rate Application to be effective 10/18/2017.

Filed Date: 8/21/17.

Accession Number: 20170821-5034.

Comments Due: 5 p.m. ET 9/11/17.

Docket Numbers: ER17-2337-001.

Applicants: Shoreham Solar Commons Holdings LLC.

Description: Tariff Amendment: Supplement to Market-Based Rate Application to be effective 10/18/2017.

Filed Date: 8/21/17.

Accession Number: 20170821-5035.

Comments Due: 5 p.m. ET 9/11/17.

Docket Numbers: ER17-2338-000.

Applicants: Arizona Public Service Company.

Description: Notice of Cancellation of Rate Schedule No. 121 of Arizona Public Service Company.

Filed Date: 8/18/17.

Accession Number: 20170818-5147.

Comments Due: 5 p.m. ET 9/8/17.

Docket Numbers: ER17-2339-000.

Applicants: New England Power Company.

Description: § 205(d) Rate Filing: New England Power Filing—Local Control Center Services Agmt & Waiver Request to be effective 8/17/2017.

Filed Date: 8/21/17.

Accession Number: 20170821-5077.

Comments Due: 5 p.m. ET 9/11/17.

Take notice that the Commission received the following public utility holding company filings:

Docket Numbers: PH17-19-000.

Applicants: Public Sector Pension Investment Board.

Description: Public Sector Pension Investment Board submits FERC 65-B Change in Facts of Waiver Notification.

Filed Date: 8/18/17.

Accession Number: 20170818-5149.

Comments Due: 5 p.m. ET 9/8/17.

Take notice that the Commission received the following electric reliability filings:

Docket Numbers: RD17-7-000.

Applicants: North American Electric Reliability Corporation.

Description: Petition of the North American Electric Reliability Corporation for Approval of Errata to Voltage and Reactive Control Reliability Standards.

Filed Date: 8/18/17.

Accession Number: 20170818-5162.

Comments Due: 5 p.m. ET 9/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2017.
Nathaniel J. Davis, Sr.,
Deputy Secretary.

[FR Doc. 2017-18022 Filed 8-24-17; 8:45 am]

BILLING CODE 6717-01-P